DEPARTMENT OF TRANSPORTATION

Federal Aviation Administration

Office of Commercial Space Transportation: Millennium Engineering and Integration Company Safety Approval Performance Criteria

AGENCY: Federal Aviation Administration (FAA), DOT.

ACTION: Notice.

SUMMARY: This is notification of criteria used to evaluate the Millennium Engineering and Integration Company (MEI) safety approval application. This Notice publishes the criteria that the FAA used to evaluate the safety approval application pursuant to FAA regulations.

Background: MEI applied for, and received, a safety approval for its ability to provide its Flight Analyst Workstation (FAWS) as a component of the process to build flight rules, generate the Mission Data Load (MDL), and verify the MDL prior to loading it onto a launch vehicle's autonomous flight safety unit (AFSU).

The FAA issued MEI the safety approval, subject to the provisions of Title 51 U.S.C. Subtitle V, ch. 509, and the orders, rules and regulations issued under it. This Notice is published pursuant to Title 14 Code of Federal Regulations (14 CFR 414.35).

MEI may offer FAWS as a component of the process of generating and verifying MDLs for AFSUs to a prospective launch or reentry operator to meet the applicable requirements of 14 CFR 417.123(b), (d), and (e), and § 417.309(h).

Criteria Used To Evaluate Safety Approval Application: The performance criteria used to evaluate the FAWS as a component of the process of generating and verifying MDLs for AFSUs included the following FAA regulations, NASA standard, U.S. Air Force manuals or instructions, industry standard, and MEI-developed standards:

14 CFR 417.309(h) Flight Safety System Analysis—Software and Firmware and 14 CFR 417.123 Computing Systems and Software.

NASA-STD-8719.13C Software Safety Standard.

AFSPCMAN 91-710 (v1) Range Safety Policies and Procedures, AFSPCMAN 91-710 (v2) Range Safety User Requirements Manual, Volume 2—Flight Safety Requirements, AFSPCMAN 91-712 Launch Safety Software and Computing System Requirements, and 45 SWI 91-701 45th Space Wing Launch Safety Software Management.

CMMI-Dev (ML3) Capability Maturity Model Integration.

MEI-000071 Configuration Management, MEI-000120 Requirements Development and Management, MEI-000124 Technical Solution, MEI-000149 Agile Software Development Process, and MEI-000125 Verification and Validation.

FOR FURTHER INFORMATION CONTACT: For questions about the performance criteria, you may contact Randal Maday, Licensing and Evaluation Division (AST-200), FAA Office of Commercial Space Transportation (AST), 800 Independence Avenue SW, Room 331, Washington, DC 20591, telephone (202) 267-8652; Email randal.maday@faa.gov.

Issued in Washington, DC, on 9 February 2018.
George C. Nield,
Associate Administrator for Commercial Space Transportation.

[FR Doc. 2018-03399 Filed 2-16-18; 8:45 am]

BILLING CODE 4910-13-P